DEPARTMENT OF HEALTH AND HUMAN SERVICES

National Institutes of Health

Request for Letters of Interest (LOI) for NCI-ComboMATCH Laboratories; Extension of Submission Period

AGENCY: National Institutes of Health, HHS.

ACTION: Notice; extension of submission period.

SUMMARY: The Department of Health and Human Services, National Institutes of Health (NIH) published a Notice in the Federal Register on August 14, 2023. This document extends the date to submit Letters of Interest (LOIs) to the National Cancer Institute (NCI), NIH.

DATES: The deadline to submit LOIs for NCI-ComboMATCH Laboratories, which published at 88 FR 55055 on August 14, 2023, is extended. LOIs should be submitted before 5 p.m. EST on October 31, 2023.

FOR FURTHER INFORMATION CONTACT: Questions about this request for LOIs should be directed to NCICOMBOMATCHLabApps@nih.gov or Benjamin Kim at benjamin.kim@nih.gov or by phone at (240) 276-5961.

SUPPLEMENTARY INFORMATION: On August 14, 2023, NIH published a notice in the Federal Register, FR Doc. 2023-17352, on pages 55055-55057. This notice extends the submission date for LOIs from September 30, 2023, to October 31, 2023.

Lyndsay N. Harris,
Associate Director, Cancer Diagnosis Program, Division of Cancer Treatment & Diagnosis, National Cancer Institute.

[FR Doc. 2023-21758 Filed 10-2-23; 8:45 am]

BILLING CODE 4140-01-P